DEPARTMENT OF HOUSING AND URBAN DEVELOPMENT

[Docket No. FR-4563-N-02]

Notice of Proposed Information Collection: Brief Survey of HUD Lead Hazard Control Grantees

AGENCY: Office of Lead Hazard Control, HUD.

ACTION: Notice.

SUMMARY: The proposed information collection requirement concerning the Notice of Funding Availability (NOFA) for Research to Improve the Evaluation and Control of Residential Lead-Based Paint Hazards will be submitted to the Office of Management and Budget (OMB) for review, as required by the Paperwork Reduction Act. The Department is soliciting public comments on the subject proposal.

DATES: Comments Due Date: July 7, 2000.

ADDRESSES: Integrated persons are invited to submit comments regarding this proposal. Comments should refer to the proposal by name and/or OMB Control Number and should be sent to: Gail Ward, Reports Liaison Officer, Department of Housing and Urban Development, 451 7th Street, SW, Room P3206, Washington, DC 20410.

FOR FURTHER INFORMATION CONTACT: Peter J. Ashley, (202) 755-1785 ext. 115 (this is not a toll-free number), for copies of the proposed forms and other available documents.

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

Title of Proposal: Brief Survey of HUD Lead Hazard Control Grantees

OMB Control Number: Not applicable.

Need For the Information and Proposed Use: This information collection is required to assist in the design of a study to evaluate the effectiveness of lead hazard control interventions performed on private housing by a sample of the recipients of HUD lead hazard control grants (grant recipients include state or local governments). A similar study has been completed for a sample of 12 recipients of LHC grants from Rounds 1 and 2 of the grant program (awards made in 1992 and 1993). A new evaluation study is needed to assess the effectiveness of LHC interventions performed by a sample of LHC grants from Rounds 3 through 7 of the program. The new evaluation is needed to asses factors or conditions that could not be assessed in the completed study (e.g., novel intervention protocols, communities in different geographic areas).

A brief survey will be conducted of potential study participants to provide information to be used in selecting a sample of final study participants. This research should contribute to an eventual reduction in the national prevalence of childhood lead poisoning.

Agency Form Numbers: None.

Members of Affected Public: State or local government recipients of HUD lead hazard control grants during Rounds 3-7 of the grant program (1994-2000).

Total Burden Estimate (first year):

Total Estimated Hours: 375.

Task | Number of respondents | Frequency of responses | Hours per response | Burden hours
Respond in writing to survey questions | 125 | 1 | 3 | 375

Number of copies to be submitted to the Office of Lead Hazard control for evaluation: One copy.

Status of the Proposed Information Collection: New request.

Authority: The Paperwork Reduction Act of 1995, 44 U.S.C. Chapter 35, as amended.

Dated: May 1, 2000.
David E. Jacobs,
Director, Office of Lead Hazard Control.

[FR Doc. 00-11454 Filed 5-5-00; 8:45 am]

BILLING CODE 4210-01-M